DEPARTMENT OF TRANSPORTATION

Federal Aviation Administration

14 CFR Part 39

[Docket No. FAA-2007-0073; Directorate Identifier 2007-NM-229-AD; Amendment 39-15240; AD 2007-22-04]

RIN 2120-AA64

Airworthiness Directives; Airbus Model A330 Airplanes

AGENCY: Federal Aviation Administration (FAA), Department of Transportation (DOT).

ACTION: Final rule; correction.

SUMMARY: The FAA is correcting a typographical error in an existing airworthiness directive (AD) that was published in the Federal Register on October 24, 2007 (72 FR 60238). The error resulted in an inadvertent omission of the deadline for submitting comments. This AD applies to all Airbus Model A330 airplanes. This AD requires revising the Procedures and Emergency sections of the Airbus A330 Airplane Flight Manual.

DATES: This correction is effective November 13, 2007. The AD published at 72 FR 60238 remains effective November 8, 2007. Comments on the AD at 72 FR 60238 must be received by December 17, 2007.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION: On October 12, 2007, the FAA issued AD 2007-22-04, amendment 39-15240 (72 FR 60238, October 24, 2007), for all Airbus Model A330 airplanes. The AD requires revising the Procedures and Emergency sections of the Airbus A330 Airplane Flight Manual.

As published, that AD did not include the sentence that contains the deadline for submitting comments.

No part of the regulatory information has been changed; therefore, the final rule is not republished in the Federal Register.

The effective date of this AD remains November 8, 2007.

In the Federal Register of October 24, 2007, on page 60238, in the second column, the DATES section of AD 2007-22-04 is corrected to read as follows:

“DATES: This AD becomes effective November 8, 2007.

The Director of the Federal Register approved the incorporation by reference of a certain publication listed in the AD as of November 8, 2007.

We must receive comments on this AD by December 17, 2007.”

Issued in Renton, Washington, on November 2, 2007.
Ali Bahrami,
Manager, Transport Airplane Directorate, Aircraft Certification Service.

[FR Doc. E7-21996 Filed 11-9-07; 8:45 am]

BILLING CODE 4910-13-P